DEPARTMENT OF STATE

[Public Notice: 11194]

Privacy Act of 1974; System of Records

AGENCY: Department of State.

ACTION: Rescindment of a system of records notice.

SUMMARY: The “Skills Catalogue Records, State-49”, which is being rescinded, contains information which the Family Liaison Office in the Department of State uses to assist family members of U.S. Government employees in acquiring employment and other services.

DATES: On October 5, 2018, the Department of State published a notice in the Federal Register (83 FR 50432) that records in State-49 were being consolidated with “Family Liaison Office Centralized Data Bank of Family Member Skills and Direct Communication Network Records, State-50” into a single modified State-50 because the records and system purposes are substantially similar. Furthermore, the system name for State-50 was changed to “Family Liaison Office Records”.

ADDRESSES: Questions can be submitted by mail, email, or by calling Eric F. Stein, the Senior Agency Official for Privacy, on (202) 485-2051. If mail, please write to: U.S. Department of State; Office of Global Information Systems, A/GIS; Room 1417, 2201 C St. NW; Washington, DC 20520. If email, please address the email to the Senior Agency Official for Privacy, Eric F. Stein, at Privacy@state.gov. Please write “Skills Catalogue Records, State-49” on the envelope or the subject line of your email.

FOR FURTHER INFORMATION CONTACT: Eric F. Stein, Senior Agency Official for Privacy; U.S. Department of State; Office of Global Information Services, A/GIS; Room 1417, 2201 C St. NW; Washington, DC 20520 or by calling (202) 485-2051.

SUPPLEMENTARY INFORMATION: The records in “Skills Catalogue Records, State-49” (previously published at 43 FR 45957) were consolidated with “Family Liaison Office Centralized Data Bank of Family Member Skills and Direct Communication Network Records, State-50” (previously published at 43 FR 45958) and renamed “Family Liaison Office Records”. The new SORN reflecting the consolidated systems of records “Family Liaison Office Records, State-50” was published at 83 FR 50432 on October 5, 2018.

SYSTEM NAME AND NUMBER:

Skills Catalogue Records, State-49.

HISTORY:

“Skills Catalogue Records, State-49” was previously published at 43 FR 45957 and “Family Liaison Office Centralized Data Bank of Family Member Skills and Direct Communication Network Records, State-50” was previously published at 43 FR 45958 before being modified, merged, and re-published at 83 FR 50432 as “Family Liaison Office Records, State-50”.

Dated August 26, 2020.
Eric F. Stein,
Senior Agency Official for Privacy, Acting Deputy Assistant Secretary, Office of Global Information Services, Bureau of Administration, Department of State.

[FR Doc. 2020-19865 Filed 9-8-20; 8:45 am]

BILLING CODE 4710-24-P